DEPARTMENT OF TRANSPORTATION

Office of the Secretary

Aviation Proceedings, Agreements filed during the week ending May 11, 2001

The following Agreements were filed with the Department of Transportation under the provisions of 49 U.S.C. 412 and 414. Answers may be filed within 21 days after the filing of the application.

Docket Number: OST-2001-9642

Date Filed: May 9, 2001

Parties: Members of the International Air Transport Association

Subject: PTC2 EUR 0373 dated 8 May 2001

TC2 Within Europe Expedited Resolutions r1-r4

Intended effective date: 31 May 2001

Docket Number: OST-2001-9651

Date Filed: May 9, 2001

Parties: Members of the International Air Transport Association

Subject:

MV/PSC/109 dated April 4, 2001

Mail Vote S075 (Euro-Related Resolutions/RP) r1-r7

Intended effective date: 1 June 2001

Docket Number: OST-2001-9669

Date Filed: May 11, 2001

Parties: Members of the International Air Transport Association

Subject:

PTC2 EUR 0374 dated 11 May 2001

Within Europe Expedited Resolutions r1-r20

PTC2 EUR 0375 dated 11 May 2001

Within Europe Expedited Resolutions 002q, 078y r21-r22

PTC2 EUR 0376 dated 11 May 2001

Within Europe Expedited Resolution 002L r23

Intended effective dates: 1 June, 15 June, 1 July 2001

Dorothy Y. Beard,
Federal Register Liaison.

[FR Doc. 01-12975 Filed 5-22-01; 8:45 am]

BILLING CODE 4910-62-P